INTERNATIONAL TRADE COMMISSION

[USITC SE-23-011]

Sunshine Act Meetings

Agency Holding the Meeting: United States International Trade Commission.

TIME AND DATE: February 13, 2023 at 11:00 a.m.

PLACE: Room 101, 500 E Street SW, Washington, DC 20436, Telephone: (202) 205-2000.

STATUS: Open to the public.

MATTERS TO BE CONSIDERED:

1. Agendas for future meetings: none.

2. Minutes.

3. Ratification List.

4. Commission vote on Inv. No. 731-TA-410 (Fifth Review) (Light-Walled Rectangular Pipe and Tube from Taiwan). The Commission currently is scheduled to complete and file its determinations and views of the Commission on February 22, 2023.

5. Outstanding action jackets: none.

CONTACT PERSON FOR MORE INFORMATION: Sharon Bellamy, Acting Supervisory Hearings and Information Officer, 202-205-2595.

The Commission is holding the meeting under the Government in the Sunshine Act, 5 U.S.C. 552(b). In accordance with Commission policy, subject matter listed above, not disposed of at the scheduled meeting, may be carried over to the agenda of the following meeting.

By order of the Commission:
Issued: February 7, 2023.
Katherine Hiner,
Acting Secretary to the Commission.

[FR Doc. 2023-02991 Filed 2-8-23; 11:15 am]

BILLING CODE 7020-02-P